DEPARTMENT OF THE INTERIOR

Bureau of Indian Affairs

Draft Environmental Impact Statement for the Proposed Point Molate Resort and Casino for the Guidiville Band of the Pomo Indians, Contra Costa County, CA

AGENCY: Bureau of Indian Affairs, Interior.

ACTION: Notice.

SUMMARY: This notice announces that the Bureau of Indian Affairs (BIA), as lead agency, intends to cancel all work on an Environmental Impact Statement (EIS) for the BIA Federal action of approving the fee-to-trust transfer and casino project located within Contra Costa County, California.

DATES: This cancellation is effective January 18, 2013.

FOR FURTHER INFORMATION CONTACT: John Rydzik, (916) 978-6051, Pacific Regional Office, Bureau of Indian Affairs, 2800 Cottage Way, Sacramento, California 95825.

SUPPLEMENTARY INFORMATION: The BIA is canceling work on the EIS because the Department of the Interior has denied the application to take the land into trust pursuant to a negative Indian lands determination and there is no longer an application pending with the BIA. The Notice of Intent to prepare the draft EIS, which included a description of the proposed action, was published in the Federal Register on March 11, 2005 (70 FR 12229-12230). A public scoping meeting was held on March 31, 2005, and public hearings were held on August 12, 2009, and September 17, 2009; the meeting and hearings were held in Richmond, California. The Notice of Availability of the Draft EIS was published in the Federal Register on July 10, 2009 (74 FR 33236). A Final EIS for this project was not filed with Environmental Protection Agency.

Authority

This notice is published pursuant to section 1503.1 of the Council on Environmental Quality Regulations (40 CFR parts 1500 through 1508) and the Department of the Interior Regulations (43 CFR part 46), implementing the procedural requirements of the National Environmental Policy Act of 1969, as amended (42 U.S.C. 4371 et seq.), and is in the exercise of authority delegated to the Assistant Secretary—Indian Affairs by 209 DM 8.

Dated: January 10, 2013.
Kevin K. Washburn,
Assistant Secretary—Indian Affairs.

[FR Doc. 2013-01062 Filed 1-17-13; 8:45 am]

BILLING CODE 4310-W7-P